DEPARTMENT OF TRANSPORTATION

Federal Highway Administration

Cancellation of Environmental Impact Statement: Clatsop County, OR

AGENCY: Federal Highway Administration (FHWA), Oregon DOT.

ACTION: Cancellation of Astoria Bypass EIS.

SUMMARY: On September 28, 1994, the Federal Highway Administration (FHWA) issued a Notice of Intent, in the Federal Register, to advise agencies and the public that an Environmental Impact Statement (EIS) would be prepared for a proposed Astoria Bypass in Clatsop County, Oregon. The project proposed to realign approximately 6 miles of U.S. 30, the Lower Columbia River Highway, from the John Day River Bridge, over new alignment through the Clatsop State Forest, to connect with OR 202, the Nehalem Highway, at Williamsport Road, and then joint U.S. 101 on the west side of Astoria near the north end of the Youngs Bay Bridge. The project is now cancelled; therefore, no further project activities will occur.

FOR FURTHER INFORMATION CONTACT: Ms. Michelle Eraut, Environmental Program Manager, Federal Highway Administration, 530 Center Street, NE., Suite 100, Salem, Oregon 97301; telephone 503-587-4716.

Authority: 23 U.S.C. 315.

Issued on: March 31, 2008.
Michelle Eraut,
Environmental Program Manager, Salem, Oregon.

[FR Doc. E8-7168 Filed 4-4-08; 8:45 am]

BILLING CODE 4910-22-P